ENVIRONMENTAL PROTECTION AGENCY

[FRL-7440-8]

EPA Science Advisory Board, Notification of Public Advisory, Committee Teleconference Meeting; Human Health Strategy Review Panel

Pursuant to the Federal Advisory Committee Act, Public Law 92-463, Notice is hereby given that the Human Health Strategy Review Panel (HHRS Review Panel) of the U.S. Environmental Protection Agency's (EPA) Science Advisory Board (SAB) will meet via teleconference on February 7, 2003 from 1 p.m. to 3 p.m. eastern time. This teleconference meeting will be hosted out of Conference Room 6013, USEPA, Ariel Rios Building North, 1200 Pennsylvania Avenue, NW., Washington, DC 20004. The meeting is open to the public, but, due to limited space, seating will be on a first-come basis. The public may also attend via telephone, however, lines may be limited. Information on how to participate is given below.

Background—The background for this review and the charge to the HHRS Review Panel was published in 67 FR 41718 on June 19, 2002. The notice also included a draft charge to the HHRS Review Panel; a call for nominations for members of the HHRS Review Panel in certain technical expertise areas needed to address the charge and described the process to be used in forming the HHRS Review Panel. Subsequently, notice was published October 11, 2002 (67 FR 63422) detailing meetings that have since been convened: a teleconference on October 23, 2002, and a face to face meeting in RTP, North Carolina on November 20-22, 2002.

Purpose of this Meeting—The purpose of this public teleconference meeting is for the HHRS Review Panel to: (a) Review and revise the panel's draft report as necessary; and (b) approve the report as revised for delivery to the SAB Executive Committee.

FOR FURTHER INFORMATION: To inquire about public participation in the meeting identified above please contact Dr. Suhair Shallal, Designated Federal Officer, HHRS Review Panel, USEPA Science Advisory Board (1400A), Suite 6450P, 1200 Pennsylvania Avenue, NW., Washington, DC 20460; telephone/voice mail at (202) 564-4566; fax at (202) 501-0582; or via e-mail at shallal.suhair@epa.gov. Members of the public desiring additional information about the meeting locations or the call-in number for the teleconference must contact Dr. Shallal at the addresses and numbers identified above.

Submitting Public Comments—The SAB will have a brief period (no more than 10 minutes) available during the Teleconference meeting for applicable public comment. For the Teleconference, the oral public comment period will be divided among the speakers who register. Registration is on a first come basis. Speakers who have been granted time on the agenda may not yield their time to other speakers. Those wishing to speak but who are unable to register in time may provide their comments in writing. Requests for oral comments must be in writing (e-mail, fax or mail) and received by Dr. Shallal at the address above no later than noon eastern time on January 31, 2003.

Availability of Review Material—There is one primary EPA document that is the subject of this review. This review document (Human Health Research Strategy, USEPA ORD, May 2002) is available electronically at the following site http://www.epa.gov/sab/pdf/hhrs.pdf

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of 10 minutes (unless otherwise indicated above). For teleconference meetings, opportunities for oral comment will usually be limited to no more than three minutes per speaker and no more than 15 minutes total (unless otherwise indicated above). Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: One hard copy with original signature, and one electronic copy via e-mail (acceptable file format: Adobe Acrobat, WordPerfect, Word, or Rich Text files (in IBM-PC/Windows 95/98 format). Those providing written comments and who attend the meeting are also asked to bring 20 copies of their comments for public distribution.

Meeting Access—Individuals requiring special accommodation at this meeting, including wheelchair access to the conference room, should contact Dr. Shallal at least five business days prior to the meeting so that appropriate arrangements can be made.

General Information—Additional information concerning the EPA Science Advisory Board, its structure, function, and composition, may be found on the SAB Web site (http://www.epa.gov/sab) and in the Science Advisory Board FY2001 Annual Staff Report, which is available from the SAB Publications Staff at (202) 564-4533 or via fax at (202) 501-0256.

Dated: January 9, 2003.
A. Robert Flaak,
Acting Staff Office Director, EPA Science Advisory Board Staff Office.

[FR Doc. 03-1240 Filed 1-17-03; 8:45 am]

BILLING CODE 6560-50-P